DEPARTMENT OF AGRICULTURE

Submission for OMB Review; Comment Request

July 25, 2018.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by August 29, 2018 will be considered. Written comments should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Contact Information of Schools That Participate in the National School Lunch Program and Organizations That Participate in the USDA's Child and Adult Care Food Program.

OMB Control Number: 0584-NEW.

Summary of Collection: The purpose of this collection is to support the mission of the United States Department of Agriculture's (USDA's) Team Nutrition Initiative, which supports national efforts to promote lifelong healthy food choices and physical activity by improving the nutrition practices of the Child Nutrition Programs. The Team Nutrition Initiative is covered under Section 19 of the Child Nutrition Act of 1966 (42 U.S.C. 1788). By collecting contact information from schools and organizations that participate in the National School Lunch Program (NSLP) and the Child and Adult Care Food Program (CACFP), the Food and Nutrition Service (FNS) can establish and maintain a database that will enable schools and organizations to network, coordinate, and collaborate with each other to identify and share innovative programs that will help children maintain healthy eating and lifestyle habits. Through this database, FNS also seeks to provide assistance to States in the development of comprehensive and integrated nutrition education and active living programs in schools and facilities that participate in NSLP and CACFP, to assist States in establishing systems to promote the nutritional health and encourage regular physical activity of school children in the United States, and to provide training and technical assistance to the States.

Need and Use of the Information: The Food and Nutrition Service (FNS) will collect contact and other information on a voluntary basis from schools and organizations that participate in NSLP and CACFP in order to enter these schools and organizations into the team nutrition database. The schools and organizations can use the team nutrition database to develop peer collaboration and to keep up-to-date on the available resources developed under the Team Nutrition Initiative. FNS will also use the contact information to send electronic notifications to schools and organizations concerning the availability of new and updated Team Nutrition materials and to provide technical assistance. The collected information will be publicly available and upon request, Team Nutrition will share information with stakeholders.

Description of Respondents: Businesses or Other for Profit; Not-for profit institutions; and State, Local, or Tribal Government.

Number of Respondents: 122,664.

Frequency of Responses: Reporting: Annually.

Total Burden Hours: 35,914.

Ruth Brown,
Departmental Information Collection Clearance Officer.

[FR Doc. 2018-16193 Filed 7-27-18; 8:45 am]

BILLING CODE 3410-30-P